DEPARTMENT OF LABOR

Office of the Secretary

Agency Information Collection Activities; Submission for OMB Review; Comment Request; Prohibited Transaction Exemption 1986-128 for Securities Transactions Involving Employee Benefit Plans and Broker-Dealers; Correction

ACTION: Notice; correction.

SUMMARY: As required by the Paperwork Reduction Act, the Department of Labor published a document in the Federal Register of June 28, 2019, inviting public comments on the Prohibited Transaction Exemption 1986-128 For Securities Transactions Involving Employee Benefit Plans and Broker-Dealers Information Collection Request (84 FR 31109). The document contained an incorrect PTE reference.

FOR FURTHER INFORMATION CONTACT: Frederick Licari by telephone at 202-693-8073 (this is not a toll-free number) or by email to DOL_PRA_PUBLIC@dol.gov.

Correction

In the Federal Register of June 28, 2019 in FR Doc. 2019-13801 on page 31109 (84 FR 31109) in the third column, the correct PTE reference should be PTE 86-128 instead of PTE 75-1.

Dated: July 8, 2019.
Frederick Licari,
Departmental Clearance Officer.

[FR Doc. 2019-14806 Filed 7-11-19; 8:45 am]

BILLING CODE 4510-29-P